DEPARTMENT OF ENERGY

Federal Energy Regulatory Commission

[Project No. 1984-069 Wisconsin]

Wisconsin River Power Company; Notice of Availability of Environmental Assessment

January 14, 2000.

An environmental assessment (EA) is available for public review. The EA analyzes the environmental impacts of Wisconsin River Power Company's application to sell 2,380 acres of project lands along with four recreation sites to the Wisconsin Department of Natural Resources (WDNR). All lands are part of the Castle Rock/Petenwell Hydroelectric Project located on the Wisconsin and Yellow Rivers in Adams, Juneau and Woods Counties, Wisconsin. The WDNR proposes to use these lands to expand its Buckhorn State Park and Wildlife Area. The EA was written by the WDNR and adopted by commission staff (with modifications) in the Office of Hydropower Licensing, Federal Energy Regulatory Commission. Commission staff's modifications are contained in our order approving the application issued December 22, 1999.

Copies of our order and the EA are available for inspection and reproduction at the Commission's Public Reference Room, located at 888 First Street, NE, Room 2A, Washington, DC 20426, or by calling (202) 208-1371. The order and EA may also be viewed on the web at www.ferc.fed.us/online/rims.htm. Call (202) 208-2222 for assistance.

Linwood A. Watson, Jr.,
Acting Secretary.

[FR Doc. 00-1430 Filed 1-20-00; 8:45 am]

BILLING CODE 6717-01-M